FEDERAL COMMUNICATIONS COMMISSION

47 CFR Part 73

[MB Docket No. 14-53; RM-11714; DA 14-1013]

Radio Broadcasting Services; Dayton, Washington

AGENCY: Federal Communications Commission.

ACTION: Final rule.

SUMMARY: The Audio Division, at the request of Brett E. Miller, allots Channel 272A at Dayton, Washington. A staff engineering analysis determines that Channel 272A can be allotted to Dayton consistent with the minimum distance separation requirements of the Rules with a site restriction 3.1 kilometers (1.9 miles) southwest of the community. The reference coordinates are 46-18-20 NL and 118-00-03 WL.

DATES: Effective September 2, 2014.

FOR FURTHER INFORMATION CONTACT: Rolanda F. Smith, Media Bureau, (202) 418-2700.

SUPPLEMENTARY INFORMATION: This is a synopsis of the Commission's Report and Order, MB Docket No. 14-53; DA 14-1013, adopted July 17, 2014, and released July 18, 2014. The full text of this document is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR Part 73 as follows:

PART 73—RADIO BROADCAST SERVICES

1. The authority citation for part 73 continues to read as follows:

Authority: 47 U.S.C. 154, 303, 334, 336 and 339.

§ 73.202 [Amended]

2. Section 73.202(b), the Table of FM Allotments under Washington, is amended by adding Dayton, Channel 272A.

[FR Doc. 2014-20295 Filed 8-25-14; 8:45 am]

BILLING CODE 6712-01-P